NUCLEAR REGULATORY COMMISSION

[NRC-2014-0189]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from July 24, 2014 to August 6, 2014. The last biweekly notice was published on August 5, 2014.

DATES: Comments must be filed by September 18, 2014. A request for a hearing must be filed by October 20, 2014.

ADDRESSES: You may submit comments by any of the following methods (unless this document describes a different method for submitting comments on a specific subject):

• Federal Rulemaking Web site: Go to http://www.regulations.gov and search for Docket ID NRC-2014-0189. Address questions about NRC dockets to Carol Gallagher; telephone: 301-287-3422; email: Carol.Gallagher@nrc.gov.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Janet C. Burkhardt, Office of Nuclear Reactor Regulation, U.S. Nuclear Regulatory Commission, Washington DC 20555-0001; telephone: 301-415-1384, email: Janet.Burkhardt@nrc.gov.

SUPPLEMENTARY INFORMATION:

I. Obtaining Information and Submitting Comments

A. Obtaining Information

Please refer to Docket ID NRC-2014-0189 when contacting the NRC about the availability of information for this action. You may obtain publicly-available information related to this action by any of the following methods:

• Federal Rulemaking Web site: Go to http://www.regulations.gov and search for Docket ID NRC-2014-0189.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2014-0189 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) the name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to this license amendment application, see the application for amendment which is available for public inspection in ADAMS and at the NRC's PDR. For additional direction on obtaining information related to this document, see the “Obtaining Information and Submitting Comments” section of this document.

Energy Northwest, Docket No. 50-397, Columbia Generating Station, Benton County, Washington

Date of amendment request: October 2, 2013, as supplemented by letter dated June 19, 2014. Publicly-available versions are in ADAMS under Accession Nos. ML13284A063 and ML14188B450, respectively.

Description of amendment request: The proposed amendment incorporates Technical Specification Task Force (TSTF) Traveler TSTF-493-A, Revision 4, “Clarify Application of Setpoint Methodology for LSSS [limiting safety system settings] Functions,” Option A. The availability of this Technical Specification (TS) improvement was announced in the Federal Register on May 11, 2010 (75 FR 26294). The proposed amendment would revise the TSs by adding requirements to assess channel performance during testing that verifies instrument channel setting values established by plant-specific setpoint methodologies to all the functions identified in TSTF-493, Revision 4, Appendix A. Notice of this action was previously published in the Federal Register on January 21, 2014 (79 FR 3415). The renoticing of this action is provided to include a supplement to the licensee's application dated October 2, 2013, which is dated June 19, 2014. This renotice replaces and supersedes the Federal Register notice of January 21, 2014, in its entirety. The supplement dated June 19, 2014, added TS Table 3.3.6.2-1 Function 1 to the list of functions included in the adoption of TSTF-493, Revision 4, which is not included in Appendix A of TSTF-493.

Basis for proposed no significant hazards consideration determination: As required by 10 CFR 50.91(a), the licensee has provided its analysis of the issue of no significant hazards consideration, which is presented below:

1. Does the proposed change involve a significant increase in the probability or consequences of an accident previously evaluated?

Response: No.

The proposed change adds test requirements to TS instrument Functions related to those variables that have a significant safety function to ensure that instruments will function as required to initiate protective systems or actuate mitigating systems at the point assumed in the applicable safety analysis. Surveillance tests are not an initiator to any accident previously evaluated. As a result, the probability of any accident previously evaluated is not significantly increased. The systems and components required by the TS for which surveillance Notes are added are still required to be operable, meet the acceptance criteria for the surveillance requirements, and be capable of performing any mitigation function assumed in the accident analysis.

Therefore, the proposed change does not involve a significant increase in the probability or consequences of an accident previously evaluated.

2. Does the proposed change create the possibility of a new or different kind of accident from any accident previously evaluated?

Response: No.

The change does not involve a physical alteration of the plant, i.e., no new or different type of equipment will be installed. The change does not alter assumptions made in the safety analysis but ensures that the instruments perform as assumed in the accident analysis. The proposed change is consistent with the safety analysis assumptions.

Therefore, the proposed change does not create the possibility of a new or different kind of accident from any previously evaluated.

3. Does the proposed change involve a significant reduction in a margin of safety?

Response: No.

The proposed change adds test requirements that will assure that TS instrumentation AVs [allowable values] (1) will be limiting settings for assessing instrument channel operability and (2) will be conservatively determined so that evaluation of instrument performance history and the ALT [as-left tolerance] requirements of the calibration procedures will not have an adverse effect on equipment operability. The testing methods and acceptance criteria for systems, structures, and components specified in applicable codes and standards (or alternatives approved for use by the NRC) will continue to be met as described in the plant licensing basis including the updated FSAR [final safety analysis report]. There is no impact to safety analysis acceptance criteria as described in the plant licensing basis because no change is made to the accident analysis assumptions.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW., Washington, DC 20006-3817.

NRC Branch Chief: Michael T. Markley.

Northern States Power Company—Minnesota (NSPM), Docket No. 50-263, Monticello Nuclear Generating Plant (MNGP), Wright County, Minnesota

Date of amendment request: April 4, 2014. A publicly-available version is in ADAMS under Accession No. ML14097A106.

Description of amendment request: The Northern States Power Company proposes to revise MNGP technical specification (TS) 3.5.1, “ECCS [Emergency Core Cooling]—Operating.” Specifically, NSPM proposes to remove TS 3.5.1, Condition F, which currently provides a 72-hour Completion Time to restore one Core Spray subsystem to Operable status when both Core Spray subsystems are inoperable.

Basis for proposed no significant hazards consideration determination: As required by 10 CFR 50.91(a), the licensee has provided its analysis of the issue of no significant hazards consideration, which is provided below.

1. Does the proposed change involve a significant increase in the probability or consequences of an accident previously evaluated?

Response: No.

The Core Spray subsystems are designed to inject/spray the core after any size break up to and including a design basis Loss of Coolant Accident (LOCA). The proposed change to revise the Completion Time does not change the conditions, operating configurations or the minimum amount of operating equipment assumed in the safety analysis for accident mitigation. No change is proposed to the manner in which the Core Spray System provides plant protection or which would create new modes of plant operation.

The proposed change will not affect the probability of any event initiators. There will be no degradation in the performance of, or an increase in the number of challenges imposed on, safety-related equipment assumed to function during an accident situation. There will be no change to normal plant operating parameters or accident mitigation performance.

Therefore, it is concluded that this change does not involve a significant increase in the probability or consequences of an accident previously evaluated.

2. Does the proposed change create the possibility of a new or different kind of accident from any accident previously evaluated?

Response: No.

There is no hardware change nor is there a change in the method by which any plant systems perform a safety function. This request does not affect the normal method of plant operation.

The proposed change does not introduce new equipment which could create a new or different kind of accident. No new external threats, release pathways, or equipment failure modes are created. No new accident scenarios, transient precursors, failure mechanisms, or limiting single failures are introduced as a result of this request.

Therefore, it is concluded that this change does not create the possibility of a new or different kind of accident from any accident previously evaluated.

3. Does the proposed change involve a significant reduction in a margin of safety?

Response: No.

The Core Spray subsystems are capable of providing water and removing heat loads to satisfy the Updated Safety Analysis Report requirements for accident mitigation or unit safe shutdown.

There will be no change to the manner in which the safety limits or limiting safety system settings are determined, nor is there a change to those plant systems necessary to assure the accomplishment of protection functions.

Therefore, it is concluded that this change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: David L. Pelton.

Omaha Public Power District, Docket No. 50-285, Fort Calhoun Station, Unit 1, Washington County, Nebraska

Date of amendment request: April 30, 2014. A publicly-available version is in ADAMS under Accession No. ML14125A239.

Description of amendment request: The proposed amendment would change Technical Specification (TS) section 3.2, Table 3-5, for Fort Calhoun Station, Unit 1, to add a new surveillance requirement similar to standard TS to verify the correct position of the valves required to restrict flow in the high-pressure safety injection system.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not involve a significant increase in the probability or consequences of an accident previously evaluated.

The proposed change to Technical Specification (TS) 3.2 Table 3-5 would add a new surveillance requirement to verify the position of valves required to restrict flow in the high pressure safety injection system to ensure adequate flow is maintained following a design basis accident.

The proposed change does not involve a significant increase in the probability or consequences of an accident previously evaluated because: (1) The proposed amendment does not represent a change to the system design, (2) the proposed amendment does not alter, degrade, or prevent action described or assumed in any accident Updated Safety Analysis Report (USAR) from being performed, (3) the proposed amendment does not alter any assumptions previously made in evaluating radiological consequences, and [4)] the proposed amendment does not affect the integrity of any fission product barrier. No other safety related equipment is affected by the proposed change.

Therefore, the proposed change does not involve a significant increase in the probability or consequences of an accident previously evaluated.

2. Does the proposed amendment create the possibility of a new or different kind of accident from any accident previously evaluated?

Response: No.

The proposed change adds a surveillance requirement to verify the position of valves. The proposed change does not alter the physical design, safety limits, or safety analysis assumptions associated with the operation of the plant. Hence, the proposed change does not introduce any new accident initiators, nor does it reduce or adversely affect the capabilities of any plant structure or system in the performance of their safety function.

Therefore, the proposed change does not create the possibility of a new or different kind of accident from any previously evaluated.

3. Does the proposed amendment involve a significant reduction in a margin of safety?

Response: No.

The proposed change to add a new surveillance requirement does not alter the manner in which safety limits or limiting safety system settings are determined. The safety analysis acceptance criteria are not affected by this proposed change. Further, the proposed change does not change the design function of any equipment assumed to operate in the event of an accident. The change only adds a requirement to periodically verify the position of valves.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Acting Branch Chief: Eric R. Oesterle.

Pacific Gas and Electric Company, Docket No. 50-133, Humboldt Bay Power Plant Unit 3, and Docket No. 72-027, Humboldt Bay Independent Spent Fuel Storage Installation, Humboldt County, California

Date of amendment request: June 30, 2014. A publicly-available version is in ADAMS under Accession No. ML14182A476.

Description of amendment request: The license amendment request proposes changes to the Humboldt Bay (HB) site Emergency Plan (E-Plan). The proposed changes are a reduction in the emergency planning function commensurate with the ongoing and anticipated reduction in radiological source term at the Humboldt Bay site. These changes are a revised E-Plan organization, the replacement of a dedicated on-call emergency response team with advisory personnel on an as-needed basis, the elimination of the initiating events and emergency action levels for Humboldt Bay Power Plant (HBPP) Unit 3, and a revision to the emergency action level (EAL) information for the HB Independent Spent Fuel Storage Installation (ISFSI).

Basis for proposed no significant hazards consideration determination: As required by 10 CFR 50.91(a), the licensee has provided its analysis of the issue of no significant hazards consideration, which is presented below:

1. Does the change involve a significant increase in the probability or consequences of an accident previously evaluated?

Response: No.

The proposed changes are a reduction in the emergency planning function commensurate with the ongoing and anticipated reduction in radiological source term at the HB site. These changes are a revised E-Plan organization, the replacement of a dedicated on-call emergency response team with advisory personnel on an as-needed basis, the elimination of the initiating events and emergency action levels for Humboldt Bay Power Plant (HBPP) Unit 3, and a revision to the emergency action level information for the HB ISFSI. There are no longer credible events that would result in doses to the public beyond the owner controlled area boundary that would exceed the Environmental Protection Agency (EPA) Protective Action Guidelines (PAGs). HBPP was shutdown in 1976 and was not restarted. All spent fuel and Greater Than Class C (GTCC) waste has been transferred to the ISFSI. Emergency Planning Zones beyond the owner controlled area and the associated protective actions are no longer required. No headquarters personnel, personnel involved in off-site dose projections, or personnel with special qualifications are required to augment the HB Emergency Response Organization. The credible events for the ISFSI remain unchanged. The indications of damage to a loaded cask confinement boundary have been revised to be twice the design basis dose rate as described in Section 7.3.2.1 of the ISFSI Final Safety Analysis Report (FSAR) (0.3 mrem/hr). This change is consistent with industry practices previously approved by the NRC for other ISFSIs to be able to distinguish that a degraded condition exists.

Therefore, the proposed change does not involve a significant increase in the probability or consequences of an accident previously evaluated.

2. Does the change create the possibility of a new or different kind of accident from any accident previously evaluated?

Response: No.

The proposed changes are a reduction in the emergency planning function commensurate with the ongoing and anticipated reduction in radiological source term at the HB site. These changes are a revised E-Plan organization, the replacement of a dedicated on-call emergency response team with advisory personnel on an as-needed basis, the elimination of the initiating events and EALs for HBPP, Unit 3, and a revision to the EAL information for the HB ISFSI. There are no longer credible events that would result in doses to the public beyond the owner controlled area boundary that would exceed the EPA PAGs. HBPP was shutdown in 1976 and was not restarted. All spent fuel and GTCC waste has been transferred to the ISFSI. Emergency Planning Zones beyond the owner controlled area and the associated protective actions are no longer required. No headquarters personnel, personnel involved in off-site dose projections, or personnel with special qualifications are required to augment the HB Site Emergency Response Organization. The proposed changes involve a revision to the HP Site E-Plan only, and do not involve any physical changes to the HB Site that would create the possibility of a new or different accident.

Therefore, the proposed change does not create the possibility of a new or different kind of accident from any previously evaluated.

3. Does the change involve a significant reduction in a margin of safety?

Response: No.

The proposed changes are a reduction in the emergency planning function commensurate with the ongoing and anticipated reduction in radiological source term at the HB site. These changes are a revised E-Plan organization, the replacement of a dedicated on-call emergency response team with advisory personnel on an as-needed basis, the elimination of the initiating events and EALs for HBPP Unit 3, and a revision to the EAL information for the HB ISFSI. There are no longer credible events that would result in doses to the public beyond the owner controlled area boundary that would exceed the EPA PAGs. HBPP was shutdown in 1976 and was not restarted. All spent fuel and GTCC waste has been transferred to the ISFSI. Margin of safety is related to the ability of the fission product barriers (fuel cladding, reactor coolant system, and primary containment) to perform their design functions during and following postulated accidents. There are no longer credible events that would result in doses to the public beyond the owner controlled area boundary that would exceed the EPA PAGs. Emergency Planning Zones beyond the owner controlled area and the associated protective actions are no longer required. No headquarters personnel, personnel involved in offsite dose projections, or personnel with special qualifications are required to augment the HB Site Emergency Response Organization. The proposed changes involve a revision to the HB Site E-Plan only and do not affect the fission product barrier design or capability of the ISFSI.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer K. Post, Law Department, Pacific Gas and Electric Company, 77 Beale Street, B30A, San Francisco, CA.

NRC Branch Chief: Bruce Watson.

Pacific Gas and Electric Company, Docket Nos. 50-275 and 50-323, Diablo Canyon Nuclear Power Plant, Units 1 and 2, San Luis Obispo County, California

Date of amendment request: March 27, 2014. A publicly-available version is in ADAMS under Accession No. ML14086A426.

Description of amendment request: The proposed amendments would revise various technical specification (TS) surveillance requirements (SRs) associated with the Diablo Canyon Power Plant, Units 1 and 2, emergency Diesel Generators (DGs). The proposed changes reflect the results of a revised load study analysis, as well as a revision to the DG 30-minute load rating. These changes were submitted to address multiple issues identified by NRC and licensee investigations, and are intended to correct various non-conservative TS values associated with DG testing.

Basis for proposed no significant hazards consideration determination: As required by 10 CFR 50.91(a), the licensee has provided its analysis of the issue of no significant hazards consideration, which is presented below:

1. Does the proposed change involve a significant increase in the probability or consequences of an accident previously evaluated?

Response: No.

The proposed changes revise the acceptance criteria to be applied to existing TS surveillance tests of the facility DGs.

The performing of a surveillance test is not an accident initiator and does not increase the probability of an accident occurring. The proposed new surveillance acceptance criteria will continue to assure that the DGs are capable of carrying the peak electrical loading assumed in the various existing safety analyses, which take credit for the operation of the DGs. The DG loads during the proposed surveillances are increased; however, they remain within vendor specifications.

Therefore, the proposed change does not involve a significant increase in the probability or consequences of an accident previously evaluated.

2. Does the proposed change create the possibility of a new or different accident from any accident previously evaluated?

Response: No.

The proposed changes revise the acceptance criteria to be applied to existing TS surveillance tests of the facility DGs. The proposed changes do not involve installation of new equipment or modification of existing equipment, so no new equipment failure modes are introduced. The proposed revision to the DG surveillance test acceptance criteria is not a change to the way that the equipment or facility is operated and no new accident initiators are created.

Therefore, the proposed change does not create the possibility of a new or different accident from any accident previously evaluated.

3. Does the proposed change involve a significant reduction in a margin of safety?

Response: No.

The proposed changes revise the acceptance criteria to be applied to existing TS surveillance tests of the facility DGs. The conduct of performance tests on safety related plant equipment is a means of assuring that the equipment is capable of maintaining the margin of safety established in the safety analyses for the facility. These changes do not significantly reduce the safety margin because the proposed SRs comply with RG [Regulatory Guide] 1.108, R1 [Revision 1, “Periodic Testing of Diesel Generator Units Used as Onsite Electric Power Systems at Nuclear Power Plants,” August 1977; available under ADAMS Accession No. ML12216A011] and Safety Guide 9 [“Selection of Diesel Generator Set Capacity for Standby Power Supplies”] (March 1971) [available under ADAMS Accession No. ML12305A251], or an exception has been requested. The changes are consistent in comparison to RG 1.9, R3 [Revision 3, “Selection, Design, Qualification, and Testing of Emergency Diesel Generator Units Used as Class 1E Onsite Electric Power Systems at Nuclear Power Plants,” July 1993; available under ADAMS Accession No. ML003739929]. The proposed DG test load values, which include the requested exception to RG 1.108, R1, are not a reduction in margin because the values are bounded by the DG manufacturer's ratings. With the proposed changes in the DG TS surveillance test acceptance criteria, the DG will continue to be tested in a manner that assures it will perform as assumed in the existing safety analyses.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Jennifer Post, Esq., Pacific Gas and Electric Company, P.O. Box 7442, San Francisco, California 94120.

NRC Acting Branch Chief: Eric R. Oesterle.

Southern Nuclear Operating Company, Inc., Georgia Power Company, Oglethorpe Power Corporation, Municipal Electric Authority of Georgia, City of Dalton, Georgia, Docket Nos. 50-321 and 50-366, Edwin I. Hatch Nuclear Plant (HNP), Units 1 and 2, Appling County, Georgia

Date of amendment request: January 16, 2014, as supplemented July 22, 2014. Publicly-available versions are in ADAMS under Accession Nos. ML14016A202 and ML14203A160.

Description of amendment request: The proposed amendments would modify Technical Specification (TS) 3.7.5, Control Room Air Conditioning (AC) System, to provide new Required Actions (RAs) for one, two, or three main control room (MCR) AC subsystems inoperable, and make other required corresponding changes.

Basis for proposed no significant hazards consideration determination: As required by 10 CFR 50.91(a), the licensee has provided its analysis of the issue of no significant hazards consideration, which is provided below:

SNC has evaluated whether or not a significant hazards consideration is involved with the proposed generic change by focusing on the three standards set forth in 10 CFR 50.92, “Issuance of amendment,” as discussed below:

1. Does the proposed change involve a significant increase in the probability or consequences of an accident previously evaluated?

Response: No.

The proposed change allows 7 days to restore an inoperable Main Control Room Air Conditioning (MCR AC) subsystem when two subsystems are inoperable and allows 72 hours to restore an inoperable MCR AC subsystem when three subsystems are inoperable, provided MCR temperature is verified every four hours to be less than 90°F [degrees Fahrenheit]. The new Required Action Completion Times are revised to be dependent upon the MCR temperature, instead of being dependent upon the outside air temperature. The option to operate indefinitely with one MCR AC subsystem inoperable provided the outside area temperature is less than 65°F is being deleted.

In the event that new Conditions A, B, or Care not met during movement of irradiated fuel assemblies in the secondary containment, during CORE ALTERATIONS, or during OPDRVs [operations with a potential for draining the reactor vessel], Conditions E and F are modified and added, respectively, to state Required Actions and Completion Times. These Required Actions include immediate suspension of the current activity as necessary. As a result of these changes, current Conditions F and G are no longer necessary and are deleted.

The proposed change does not involve a physical alteration of the plant (no new or different type of equipment will be installed). The design basis equipment temperature limit of the control room equipment is not affected. Future changes to the Bases or licensee controlled document will be evaluated pursuant to the requirements of 10 CFR 50.59, “Changes, test and experiments”, to ensure that such changes do not result in more than a minimal increase in the probability or consequences of an accident previously evaluated.

The proposed changes do not adversely affect accident initiators or precursors nor alter the design assumptions, conditions, and configuration of the facility or the manner in which the plant is operated and maintained. The proposed changes do not adversely affect the ability of structures, systems and components (SSCs) to perform their intended safety function to mitigate the consequences of an initiating event within the assumed acceptance limits. The proposed changes do not affect the source term, containment isolation, or radiological consequences of any accident previously evaluated. Further, the proposed changes do not increase the types and the amounts of radioactive effluent that may be released, nor significantly increase individual or cumulative occupation/public radiation exposures.

Therefore, the changes do not involve a significant increase in the probability or consequences of any accident previously evaluated.

2. Does the proposed change create the possibility of a new or different kind of accident from any accident previously evaluated?

Response: No.

The proposed change allows 7 days to restore an inoperable Main Control Room Air Conditioning (MCR AC) subsystem when two subsystems are inoperable and allows 72 hours to restore an inoperable MCR AC subsystem when three subsystems are inoperable, provided MCR temperature is verified every four hours to be less than 90°F. The new Required Action Completion Times are revised to be dependent upon the MCR temperature, instead of being dependent upon the outside air temperature. The option to operate indefinitely with one MCR AC subsystem inoperable provided the outside area temperature is less than 65°F is being deleted.

In the event that new Conditions A, B, or C are not met during movement of irradiated fuel assemblies in the secondary containment, during CORE ALTERATIONS, or during OPDRVs, Conditions E and F are modified and added, respectively, to state Required Actions and Completion Times. These Required Actions include immediate suspension of the current activity as necessary. As a result of these changes, current Conditions F and G are no longer necessary and are deleted.

The changes do not involve a physical altering of the plant (i.e., no new or different type of equipment will be installed) or a change in methods governing normal plant operation. The requirements in the TS continue to require maintaining the control room temperature within the design limits.

Therefore, the changes do not create the possibility of a new or different kind of accident from any previously evaluated.

3. Does the proposed change involve a significant reduction in a margin of safety?

Response: No.

The proposed change allows 7 days to restore an inoperable Main Control Room Air Conditioning (MCR AC) subsystem when two subsystems are inoperable and allows 72 hours to restore an inoperable MCR AC subsystem when three subsystems are inoperable, provided MCR temperature is verified every four hours to be less than 90°F. The new Required Action Completion Times are revised to be dependent upon the MCR temperature, instead of being dependent upon the outside air temperature. The option to operate indefinitely with one MCR AC subsystem inoperable provided the outside area temperature is less than 65°F is being deleted.

In the event that new Conditions A, B, or C are not met during movement of irradiated fuel assemblies in the secondary containment, during CORE ALTERATIONS, or during OPDRVs, Conditions E and F are modified and added, respectively, to state Required Actions and Completion Times. These Required Actions include immediate suspension of the current activity as necessary. As a result of these changes, current Conditions F and G are no longer necessary and are deleted.

Instituting the proposed changes will continue to maintain the control room temperature within design limits. Should it appear that control room temperature may exceed the design basis 105°F equipment limit based on the control room temperature reaching 90°F in Modes 1, 2, or 3, the plant will be placed in the Cold Shutdown Mode (Mode 4). If the control room heatup is rapid, then the plant with be required to be placed in Mode 3 and in Mode 4 with a Completion Time that is similar to the current requirements. If the control room heatup is relatively slow (and the design basis equipment temperature is therefore less likely to be reached), longer time will be allowed to place the plant in Mode 3 and in Mode 4 (if necessary). Changes to the Bases or license controlled document are performed in accordance with 10 CFR 50.59. This approach provides an effective level of regulatory control and ensures that the control room temperature will be maintained within design limits.

The proposed changes maintain sufficient controls to preserve the current margins of safety. Therefore, the proposed change does not involve a significant reduction in a margin of safety.

Based on the above, SNC concludes that the proposed change presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Ernest L. Blake, Jr., Esquire, Shaw, Pittman, Potts and Trowbridge, 2300 N Street NW., Washington, DC 20037.

NRC Branch Chief: Robert Pascarelli.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Exelon Generation Company, LLC, and PSEG Nuclear LLC, Docket Nos. 50-277 and 50-278, Peach Bottom Atomic Power Station, Units 2 and 3, York and Lancaster Counties, Pennsylvania

Date of application for amendments: December 4, 2013.

Brief description of amendments: The amendments revised Technical Specification (TS) Limiting Condition for Operation 3.5.1 to delete a note that is not conservative. The note is being deleted because plant operation, in accordance with the note, could result in potential damage to the residual heat removal system.

Date of issuance: July 28, 2014.

Effective date: As of the date of issuance, to be implemented within 60 days.

Amendments Nos.: 292 and 295. A publicly-available version is in ADAMS under Accession No. ML14163A589; documents related to these amendments are listed in the Safety Evaluation enclosed with the amendments.

Renewed Facility Operating License Nos. DPR-44 and DPR-56: The amendments revised the Facility Operating Licenses and the TSs.

Date of initial notice in Federal Register: March 4, 2014 (79 FR 12245).

The Commission's related evaluation of the amendments is contained in a Safety Evaluation dated July 28, 2014.

No significant hazards consideration comments received: No.

NextEra Energy Seabrook, LLC, Docket No. 50-443, Seabrook Station, Unit 1, Rockingham County, New Hampshire

Date of amendment request: May 28, 2013, as supplemented by letters dated July 31, 2013, January 29, 2014, and March 26, 2014.

Brief description of amendment: The amendment revised the Seabrook Technical Specifications (TSs). Specifically, the amendment modified the TSs by relocating specific surveillance frequencies to a licensee-controlled program with implementation of Nuclear Energy Institute 04-10, “Risk-Informed Technical Specification Initiative 5B, Risk-Informed Method for Control of Surveillance Frequencies.” The changes are consistent with NRC-approved Technical Specifications Task Force (TSTF) Standard Technical Specifications (STS) change TSTF-425, “Relocate Surveillance Frequencies to Licensee Control—Risk Informed Technical Specifications Task Force (RITSTF) Initiative 5b,” Revision 3 (ADAMS Accession No. ML090850642). The Federal Register notice published on July 6, 2009 (74 FR 31996), announced the availability of this TS improvement.

Date of issuance: July 24, 2014.

Effective date: As of its date of issuance and shall be implemented within 90 days.

Amendment No.: 141. A publicly-available version is in ADAMS under Accession No. ML13212A069; documents related to this amendment are listed in the Safety Evaluation enclosed with the amendment.

Facility Operating License No. NPF-86: The amendment revised the License and TS.

Date of initial notice in Federal Register: August 20, 2013 (78 FR 51227). The supplemental letters dated July 31, 2013, January 29, 2014, and March 26, 2014, provided additional information that clarified the application, did not expand the scope of the application as originally noticed, and did not change the staff's original proposed no significant hazards consideration determination as published in the Federal Register.

The Commission's related evaluation of the amendment is contained in a Safety Evaluation dated July 24, 2014.

No significant hazards consideration comments received: No.

PSEG Nuclear, LLC, Docket No. 50-354, Hope Creek Generating Station (Hope Creek), Salem County, New Jersey

Date of amendment request: July 30, 2013.

Brief description of amendment: The amendment revised the Technical Specifications (TS) to delete the operability and surveillance requirements (SRs) for the reactor coolant system safety/relief valve (SRV) position instrumentation from the Hope Creek TS. The operability and SRs for the SRV position instrumentation will be relocated by the licensee into the Hope Creek Technical Requirements Manual (TRM). The Hope Creek TRM is controlled in a manner consistent with procedures described in the Hope Creek Updated Final Safety Analysis Report, and under the provisions of 10 CFR 50.59. Future changes to the operability and SRs for the SRV position instrumentation will be performed pursuant to 10 CFR 50.59.

Date of issuance: July 29, 2014.

Effective date: As of its date of issuance and shall be implemented within 60 days.

Amendment No.: 195. A publicly-available version is in ADAMS under Accession No. ML14108A312; documents related to this amendment are listed in the Safety Evaluation enclosed with the amendment.

Renewed Facility Operating License No. NPF-57: The amendment revised the License and TS.

Date of initial notice in Federal Register: April 1, 2014 (79 FR 18334).

The Commission's related evaluation of the amendment is contained in a Safety Evaluation dated July 29, 2014.

No significant hazards consideration comments received: No.

South Carolina Electric and Gas, Docket Nos. 52-027 and 52-028, Virgil C. Summer Nuclear Station (VCSNS) Units 2 and 3, Fairfield County, South Carolina

Date of amendment request: December 17, 2013, as supplemented by the letter dated March 26, 2014.

Brief description of amendments: The amendments authorize a revision to the VCSNS Units 2 and 3 Emergency Plan to facilitate compliance with the Final Rule for Emergency Planning and Preparedness published on November 23, 2011.

Date of issuance: June 23, 2014.

Effective date: As of the date of issuance and shall be implemented within 180 days of issuance.

Amendment Nos.: Unit 2—13, and Unit 3—13. A publicly-available version is in ADAMS under Accession Nos. ML14133A377 and ML14133A381; documents related to these amendments are listed in the Safety Evaluation enclosed with the amendments.

Facility Combined Licenses No. NPF-93 and NPF-94: Amendments revised the VCSNS Units 2 and 3 Emergency Plan.

Date of initial notice in Federal Register: February 19, 2014 (79 FR 9490). The supplement dated March 26, 2014, provided additional information that clarified the application, did not expand the scope of the application as originally noticed, and did not change the staff's original proposed no significant hazards consideration determination as published in the Federal Register.

The Commission's related evaluation of the amendment is contained in a Safety Evaluation dated June 23, 2014.

No significant hazards consideration comments received: No.

Tennessee Valley Authority (TVA), Docket Nos. 50-259, 50-260, and 50-296, Browns Ferry Nuclear Plant (BFN), Units 1, 2, and 3, Limestone County, Alabama

Date of application for amendments: February 28, 2013, as supplemented by letters dated September 30, 2013, and May 16, 2014.

Description of amendment request: The amendments add three additional AREVA NP analysis methodologies to the list of approved methods to be used in determining core operating limits in the Core Operating Limits Report. In addition, the amendments implement a change to the Safety Limit Minimum Critical Power Ratio value for BFN Unit 2. The changes support a planned transition to AREVA ATRIUM 10XM (XM) fuel design. TVA intends to transition Unit 2 to XM design starting with Cycle 19 (spring 2015), Unit 3 in spring 2016, followed by Unit 1 in fall of 2016.

Date of issuance: July 31, 2014.

Effective date: Date of issuance, to be implemented during the refueling outages of Unit 1 in fall of 2016, Unit 2 in spring 2015, Unit 3 in spring 2016.

Amendment Nos.: Unit 1—285, Unit 2—311, and Unit 3—270. A publicly-available version is in ADAMS under Accession No. ML14113A286; documents related to these amendments are listed in the Safety Evaluation enclosed with the amendments.

Renewed Facility Operating License Nos. DPR-33, DPR-52, and DPR-68: Amendments revised the Facility Operating Licenses and Technical Specifications.

Date of initial notice in Federal Register: August 13, 2013 (78 FR 49302). The supplemental letters dated September 30, 2013, and May 16, 2014, provided additional information that clarified the application, did not expand the scope of the application as originally noticed, and did not change the staff's original proposed no significant hazards consideration determination as published in the Federal Register.

The Commission's related evaluation of the amendment is contained in a Safety Evaluation dated July 31, 2014.

No significant hazards consideration comments received: No.

Dated at Rockville, Maryland, this 11th day of August 2014.
For the Nuclear Regulatory Commission.
A. Louise Lund,
Acting Director, Division of Operating Reactor Licensing, Office of Nuclear Reactor Regulation.

[FR Doc. 2014-19386 Filed 8-18-14; 8:45 am]

BILLING CODE 7590-01-P